DEPARTMENT OF HEALTH AND HUMAN SERVICES

Office of the Secretary

[Document Identifier: HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary, Department of Health and Human Services, announces plans to submit a new Information Collection Request (ICR), described below, to the Office of Management and Budget (OMB). Prior to submitting the ICR to OMB, the Office of the Secretary seeks comments from the public regarding the burden estimate, below, or any other aspect of the ICR.

DATES: Comments on the ICR must be received on or before June 2, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference.

Information Collection Request Title: Education and Training of Healthcare Providers as a Coordinated Public Health Response to Violence Against Women.

Abstract: The Office on Women's Health (OWH) is seeking a new clearance to a conduct a one year data collection associated with the pilot and evaluation of an eLearning course developed as part of the “Education and Training of Healthcare Providers as a Coordinated Public Health Response to Violence Against Women Project”. The purpose of this data collection is to gather data from healthcare providers who have volunteered to participate in the pilot and evaluation of an e-learning course designed to educate and train healthcare providers on how to respond to intimate partner violence (IPV) against women. Information obtained from this data collection will be used to identify areas of improvement and measure the effectiveness of the e-learning course in educating healthcare providers about IPV, addressing attitudinal barriers to IPV screening, and increasing IPV screening in clinical practice. This data will also help identify any problems in the navigation and functioning of the e-learning course. The results of this evaluation will assist OWH in making revisions to the course and subsequently coordinating a national launch, making the e-learning course available to healthcare providers across the U.S. All data collection forms and activities will be used within a year time frame.

Need and Proposed Use of the Information: The piloting and evaluation of this eLearning course supports the DHHS and OWH's overall mission and strategic plan. It supports the DHHS objective of implementing “prevention policies, programming, and interventions to prevent and respond to individuals, families, and communities impacted by domestic violence”. It also enhances OWH's capacity to provide healthcare providers with accurate, evidence-based information and identify innovative educational strategies. Furthermore, the results will also aid in the planning and development of future OWH and other public and private sector initiatives to promote IPV awareness and screening in the healthcare setting. Knowledge gained from the evaluation will inform federal, public, and private sector on how IPV knowledge, attitude, and practices may differ between healthcare providers and healthcare settings.

Likely Respondents: The respondents for this pilot and evaluation are healthcare providers (physicians, nurses, and social workers) who are members of professional associations and who provide services in Nevada, Oklahoma, and South Carolina.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Pre-Assessment | 1600 | 1 | 25/60 | 667
Post-Assessment | 1600 | 1 | 25/60 | 667
Follow-up Assessment | 1600 | 1 | 25/60 | 667
Total |  |  |  | 2001

Office of the Secretary specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy, Information Collection Clearance Officer.

[FR Doc. 2014-07395 Filed 4-2-14; 8:45 am]

BILLING CODE 4150-33-P